DEPARTMENT OF LABOR

Employment and Training Administration

[TA-W-62,875]

Bolton Metal Products Co., Including On-Site Leased Workers of Adecco Staffing, Bellefonte, PA; Amended Notice of Revised Determination on Reconsideration

In accordance with Section 223 of the Trade Act of 1974 (19 U.S.C. 2273), and Section 246 of the Trade Act of 1974 (26 U.S.C. 2813), as amended, the Department of Labor issued a Notice of Revised Determination on Reconsideration on May 9, 2008. The notice was published in the Federal Register on May 15, 2008 (72 FR 28169-28170).

At the request of the petitioners, the Department reviewed the Notice of Revised Determination on Reconsideration for workers of the subject firm. The workers are engaged in the production of brass rod, wire and low melt alloys. The workers are separately identifiable by product line.

New information shows that leased workers of Adecco Staffing were employed on-site at the Bellefonte, Pennsylvania location of Bolton Metal Products, Co. The Department has determined that these workers were sufficiently under the control of Bolton Metal Products Co. to be considered leased workers.

Based on these findings, the Department is amending this certification to include leased workers of Adecco Staffing working on-site at the Bellefonte, Pennsylvania location of the subject firm.

The intent of the Department's certification is to include all workers employed at Bolton Metal Products Co., Bellefonte, Pennsylvania who were adversely-impacted by increased imports of brass rod, wire, and low melt alloys.

The amended notice applicable to TA-W-62,875 is hereby issued as follows:

All workers of Bolton Metal Products Co., including on-site leased workers of Adecco Staffing, Bellefonte, Pennsylvania, who became totally or partially separated from employment on or after February 18, 2007, through May 9, 2010, are eligible to apply for adjustment assistance under Section 223 of the Trade Act of 1974, and are also eligible to apply for alternative trade adjustment assistance under Section 246 of the Trade Act of 1974.

Signed at Washington, DC this 26th day of June 2008.
Elliott S. Kushner,
Certifying Officer, Division of Trade Adjustment Assistance.

[FR Doc. E8-15861 Filed 7-11-08; 8:45 am]

BILLING CODE 4510-FN-P